DEPARTMENT OF LABOR

Employment and Training Administration

Agency Information Collection Activities; Comment Request; Petition Requirements and Investigative Data Collection: Trade Act of 1974, as Amended

ACTION: Notice.

SUMMARY: The Department of Labor's (DOL's), Employment and Training Administration is soliciting comments concerning a proposed extension for the authority to conduct the information collection request (ICR) titled, “Petition Requirements and Investigative Data Collection: Trade Act of 1974, as Amended.” This comment request is part of continuing Departmental efforts to reduce paperwork and respondent burden in accordance with the Paperwork Reduction Act of 1995 (PRA).

DATES: Consideration will be given to all written comments received by April 29, 2019.

ADDRESSES: A copy of this ICR with applicable supporting documentation, including a description of the likely respondents, proposed frequency of response, and estimated total burden, may be obtained free by contacting Timothy Theberge, Office of Trade Adjustment Assistance, Room N-5428, Employment and Training Administration, U.S. Department of Labor, 200 Constitution Avenue NW, Washington, DC 20210. Telephone number: 202-693-3401 (this is not a toll-free number). Individuals with hearing or speech impairments may access the telephone number above via TTY by calling the toll-free Federal Information Relay Service at 1-877-889-5627 (TTY/TDD). Fax: 202-693-3584. Email: theberge.timothy@dol.gov. A copy of the proposed information collection request (ICR) can be obtained by contacting the office listed above.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Section 221(a) of Title II, Chapter 2 of the Trade Act of 1974, as amended by the Trade Adjustment Assistance Reauthorization Act of 2015, authorizes the Secretary of Labor and the Governor of each state to accept petitions for certification of eligibility to apply for adjustment assistance. The petitions may be filed by a group of workers, their certified or recognized union or duly authorized representative, employers of such workers, one-stop operators, or one-stop partners. ETA Form 9042, Petition for Trade Adjustment Assistance, and its Spanish translation, ETA Form 9042A, Solicitud De Asistencia Para Ajuste, establish a format that may be used for filing such petitions.

Sections 222, 223, and 249 of the Trade Act of 1974, as amended, require the Secretary of Labor to issue a determination for groups of workers as to their eligibility to apply for adjustment assistance. After reviewing all of the information obtained for each petition for Trade Adjustment Assistance filed with the Department, a determination is issued as to whether the statutory criteria for certification are met. The information collected via the following forms will be used by the Secretary to determine to what extent, if any, increased imports or shifts in either service or production have impacted the petitioning worker group:

• ETA Form 9043a, Business Data Request—Article

• ETA Form 9043b, Business Data Request—Service

• ETA Form 9118, Business Information Request

• ETA Form 8562a, Business Customer Survey

• ETA Form 8562a1, Business Second Tier Customer Survey

• ETA Form 8562b, Business Bid Survey

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0342.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Petition Requirements and Investigative Data Collection: Trade Act of 1974, as Amended.

Form(s): ETA 9042A, Petition for Trade Adjustment Assistance, and its Spanish translation ETA 9042A; ETA 9043a, Business Data Request—Article; ETA 9043b, Business Data Request—Service; ETA 8562a, Business Customer Survey; ETA 85622a-1, Business Second Tier Customer Survey; ETA-8562b, Business Bid Survey; and ETA 9118, Business Information Request.

OMB Control Number: 1205-0342.

Affected Public: Individuals or Households, Businesses, State Governments.

Estimated Number of Respondents: 5,280.

Frequency: Once.

Total Estimated Annual Responses: 5,460.

Estimated Average Time per Response: 2.0805 Hours.

Estimated Total Annual Burden Hours: 11,360.

Total Estimated Annual Other Cost Burden: $0.00.

Molly E. Conway,
Acting Assistant Secretary for Employment and Training, Labor.

[FR Doc. 2019-03209 Filed 2-25-19; 8:45 am]

BILLING CODE 4510-FN-P